FEDERAL COMMUNICATIONS COMMISSION

Notice of Public Information Collection(s) Being Submitted for Review to the Office of Management and Budget, Comments Requested

September 3, 2008.

SUMMARY: As part of its continuing effort to reduce paperwork burden and as required by the Paperwork Reduction Act (PRA) of 1995 (44 U.S.C. 3501-3520), the Federal Communications Commission (Commission or FCC) invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before October 9, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the FCC's PRA mailbox (e-mail address: PRA@fcc.gov). Include in the e-mails the OMB control number of the collection as shown in the “SUPPLEMENTARY INFORMATION” section below or, if there is no OMB control number, the Title as shown in the “SUPPLEMENTARY INFORMATION” section. If you are unable to submit your comments by e-mail contact the person listed below to make alternate arrangements.

FOR FURTHER INFORMATION CONTACT: For additional information contact Jerry Cowden via e-mail at PRA@fcc.gov or at 202-418-0447. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: None.

Title: Information Collection regarding Emergency Backup Power for Communications Assets as set forth in the Commission's rules (47 CFR 12.2).

Form No.: Not applicable.

Type of Review: New collection.

Respondents: Business or other for-profit.

Number of Respondents: 73 respondents; 93 responses.

Estimated Time per Response: 116.64 hours (range of 96 to 192 hours).

Frequency of Response: One-time reporting.

Obligation to Respond: Mandatory.

Total Annual Burden: 10,848 hours.

Total Annual Cost: None.

Privacy Act Impact Assessment: This information collection does not affect individuals or households, and therefore a privacy impact assessment is not required.

Nature and Extent of Confidentiality: All reports and plans required by Section 12.2 of the Commission's rules will be automatically afforded confidentiality because the information in these reports and plans is sensitive for both national security and/or commercial reasons.

Needs and Uses: The Commission adopted an Order (FCC 07-107) that includes an emergency backup power rule (section 12.2). This rule, as modified in an Order on Reconsideration (FCC 07-177), obligates certain specified local exchange carriers (LECs) and commercial mobile radio service (CMRS) providers to file a report that enumerates whether the carriers meet the emergency backup power requirement for assets necessary to maintain communications that are normally powered from local commercial power.

Specifically, Section 12.2(c) requires LECs and CMRS providers to file reports with the Commission that identify the following information: (1) Each asset that was designed to comply with the applicable backup power requirement; (2) each asset where compliance is precluded due to risk to safety or life or health; (3) each asset where compliance is precluded by private legal obligation or agreement; (4) each asset where compliance is precluded by Federal, state, tribal or local law; and (5) each asset that was designed with less than the required emergency backup power capacity and that is not precluded from compliance by risk to safety of life or health, private legal obligation or agreement, or Federal, state, tribal or local law. LECs and CMRS providers must file these reports within six months of the effective date of this requirement, which is the date of the Federal Register notice announcing OMB approval of the information collection contained in section 12.2 of the Commission's rules. LECs and CMRS providers must include a description of facts supporting the basis of the LECs or CMRS provider's claim of preclusion from compliance based on risk to safety of life or health, private legal obligation or agreement, or Federal, state, tribal or local law.

Additionally, LECs and CMRS providers identifying assets designed with less than the emergency backup power capacity required in section 12.2(a) and not otherwise precluded from compliance for one of the three reasons identified in section 12.2(b) must comply with the backup power requirement or file, within 12 months from the effective date of section 12.2, a certified emergency backup power compliance plan that is subject to Commission review. The emergency backup power compliance plan must certify and describe how, in the event of a commercial power failure, the LEC or CMRS provider will provide emergency backup power to 100 percent of the area covered by any non-compliant asset, relying on on-site and/or portable backup power sources or other sources as appropriate. This emergency backup power must be sufficient for service coverage as follows: A minimum of 24 hours for assets inside central offices and eight hours for other assets such as cell sites, remote switches, and digital loop carrier system remote terminals.

LECs that meet the definition of a Class B company as set forth in section 32.11(b)(2) of the Commission's rules and non-nationwide CMRS providers with no more than 500,000 subscribers are exempt from these reporting requirements.

Federal Communications Commission.
Marlene H. Dortch,
Secretary.

[FR Doc. E8-20892 Filed 9-8-08; 8:45 am]

BILLING CODE 6712-01-P